DEPARTMENT OF AGRICULTURE

Submission for OMB Review; Comment Request

June 2, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 7, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Best Practices in Disaster Supplemental Nutrition Assistance Program (D-SNAP) Operations and Planning.

OMB Control Number: 0584-NEW.

Summary of Collection: The Food and Nutrition Act of 2008, as amended in 2014, provides the legislative authority for the U.S. Department of Agriculture's (USDA) Food and Nutrition Service (FNS) to administer the Supplemental Nutrition Assistance Program (SNAP). Section 17 of the Food and Nutrition Act of 2008 provides FNS the authority to conduct research to help improve the administration and effectiveness of SNAP.

Need and Use of the Information: The primary purpose of this voluntary, one-time data collection is to identify best practices in D-SNAP planning and operations from across the country and for a variety of disaster types. FNS seeks to better understand best practices in D-SNAP planning and operations across disaster types, administrative contexts, and geographic locations. This study will culminate in a written report describing D-SNAP operations and planning, including best practices, lessons learned, and challenges, in the five (5) study States for ten (10) recent D-SNAPs. FNS will use the findings from the study to inform and update guidance and technical assistance to State agencies. State agencies may also use the study findings to improve their D-SNAP planning and operations.

Description of Respondents: Individuals/Households (56) Business-for-not-for-Profit (56) State, Local, or Tribal Government (129).

Number of Respondents: 241.

Frequency of Responses: Reporting; On occasion.

Total Burden Hours: 487.

Ruth Brown,
Departmental Information Collection Clearance Officer.

[FR Doc. 2021-11875 Filed 6-4-21; 8:45 am]

BILLING CODE 3410-30-P